Proclamation 9838 of January 18, 2019

National Sanctity of Human Life Day, 2019

By the President of the United States of America

A Proclamation

Today marks the 46th year since the United States Supreme Court's decision in Roe v. Wade. On this day, National Sanctity of Human Life Sunday, we mourn the lives cut short, and the tremendous promise lost, as a result of abortion. As a Nation, we must resolve to protect innocent human life at every stage.

As President, I am committed to defending the Right to Life. During my first week in office, I reinstated the Mexico City Policy, which prevents foreign aid from being used to fund or support the global abortion industry. We are also working to end the abhorrent practice of elective late-term abortion, a practice allowed in only seven countries around the world.

At home, we have issued a proposed regulation to implement the Title X prohibition on funding programs that include abortion as a method of family planning. I am supporting the effort in the United States Senate to make permanent the Hyde Amendment, which has been added year after year to spending bills and prevents taxpayer funding for abortion. And I have explicitly informed the Congress that I will veto any legislation that weakens existing Federal protections for human life.

My Administration has repeatedly demonstrated its respect for human life and conscience at all stages. We have finalized conscience exemptions from the contraceptive mandate to protect employers like Little Sisters of the Poor from being forced to choose between violating their religious beliefs and shutting their doors. We also increased the child tax credit, making it financially easier for mothers to care for their children after birth, while supporting the loving choices of adoption and foster care.

As the opioid crisis severely affects our country, especially women and babies, we are redoubling our efforts to help children born with Neonatal Abstinence Syndrome. And we must do everything within our power to protect the sanctity of life for the most vulnerable and defenseless among us, including people with disabilities. Americans with disabilities like Down syndrome are an inspiration, and their example of joy and perseverance enriches our lives.

Our Constitution and our laws contain many protections for innocent life, and I have worked hard for the confirmation and appointment of judges—including two outstanding Supreme Court justices—committed to the rule of law.

We commend the pro-life movement for the tremendous efforts it has made to prevent the deaths of innocent unborn children, including through the annual March for Life. For more than 46 years, courageous and faithful citizens, many from college campuses and high schools across our country, have extended big hearts and hands of compassion to young women experiencing unexpected pregnancies. For decades, they have prayed passionately and stood tirelessly for the sanctity of life, speaking up for those who cannot speak for themselves. We honor, too, the many men and women who share the precious gifts of life and family by adopting babies and children, welcoming them into their homes and hearts.

Today, we recommit ourselves to protecting innocent life every day and at every stage. We must continue to be a country that shows respect for the dignity and worth of every person at every stage of life.

NOW, THEREFORE, I, DONALD J. TRUMP, President of the United States of America, by virtue of the authority vested in me by the Constitution and the laws of the United States, do hereby proclaim January 20, 2019, as National Sanctity of Human Life Day. Today I call on the Congress to join me in protecting and defending the dignity of every human life, including those not yet born. I call on the American people to continue to care for women in unexpected pregnancies and to support adoption and foster care in a more meaningful way, so every child can have a loving home. And finally, I ask every citizen of this great Nation to listen to the sound of silence caused by a generation lost to us, and then to raise their voices for all those affected by abortion, both seen and unseen.

IN WITNESS WHEREOF, I have hereunto set my hand this eighteenth day of January, in the year of our Lord two thousand nineteen, and of the Independence of the United States of America the two hundred and forty-third.

[FR Doc. 2019-00221

Filed 1-24-19; 8:45 am]

Billing code 3295-F9-P